DEPARTMENT OF STATE

[Public Notice 6270]

Records of the Office of the Assistant Legal Adviser for International Claims and Investment Disputes

Summary: Notice is hereby given that the Department of State proposes to amend the Records of the Office of the Assistant Legal Adviser for International Claims and Investment Disputes pursuant to the provisions of the Privacy Act of 1974, as amended (5 U.S.C. 522a(r)), and Office of Management and Budget Circular No. A-130, Appendix I. The Department's report was filed with the Office of Management and Budget on June 12, 2008.

It is proposed that the existing system will retain the name “Records of the Office of the Assistant Legal Adviser for International Claims and Investment Disputes.” It is also proposed that the amended system description will reflect the inclusion of names and addresses of witnesses to the claims processed by the Office of International Claims and Investment Disputes.

Any persons interested in commenting on this amendment of the Records of the Office of the Assistant Legal Adviser for International Claims and Investment Disputes may do so by submitting comments in writing to Margaret P. Grafeld, Director, Office of Information Programs and Services, A/ISS/IPS, U.S. Department of State, SA-2, Washington, DC 20522-8001.

This amendment to the Records of the Office of the Assistant Legal Adviser for International Claims and Investment Disputes will be effective 40 days from the date of publication, unless comments are received that result in a contrary determination.

The amendment will read as follows.

Dated: June 12, 2008.
Rajkumar Chellaraj,
Assistant Secretary for the Bureau of Administration, Department of State.

STATE-54

System name:

Records of the Office of the Assistant Legal Adviser for International Claims and Investment Disputes.

Security classification:

Classified.

System locations:

Department of State, 2201 C Street, NW., Washington, DC 20520 and 2100 K Street, NW., Washington, DC 20037.

Categories of individuals covered by the system:

U.S. nationals or residents, including businesses, with claims against foreign governments. Foreign nationals with claims against the United States. U.S. nationals or residents and foreign nationals who are witnesses or potential witnesses in these claims. U.S. citizens who have filed claims pursuant to 22 U.S.C. 1971, et seq. (“Fisherman's Protective Act”); 22 U.S.C. 2669(f) (“The Act of August 1956”); 28 U.S.C. 1346, 2671-80 (“The Federal Tort Claim Act”); 50 U.S.C. 1701 note.

Categories of records in the system:

Information relating to claims described above, including the names and addresses of parties and witnesses to the claims, the category and nature of the claims, their procedural history, correspondence, memoranda, and data which will enable U.S. Government attorneys to identify and process common legal issues in the claims.

Authority for maintenance of the system:

2 U.S.C. sec. 1971, et seq. (“Fisherman's Protective Act”); 22 U.S.C. 2669(f) (“The Act of August 1956”); 28 U.S.C. 1346, 2671-80 (“The Federal Tort Claim Act”); 50 U.S.C. 1701 note; 5 U.S.C. 301.

Purpose:

The Office of International Claims and Investment Disputes in the Office of the Legal Adviser will use this record system to organize information to facilitate processing claims made pursuant to the above-cited authorities.

Routine uses of records maintained in the system, including categories of users and purposes of such uses:

Certain information may be made available to other government agencies involved in the processing of the claim, principally the Departments of Justice, Treasury, Commerce, Defense and the Office of the United States Trade Representative, as well as relevant international tribunals and foreign governments. The information may also be released to other government agencies having statutory or other lawful authority to maintain such information. Also see “Routine Uses” listed in the Department of State Prefatory Statement published in the Federal Register.

Policies and practices for storing, retrieving, accessing, retaining, and disposing of records in the system:

Storage:

Electronic media; hard copy.

Retrievability:

By claim number or individual claimant or witness name; by nature or category of claim; by other descriptive features of the claim such as the country involved or applicable statute.

Safeguards:

All Department of State employees and contractors with authorized access, have undergone a thorough personnel security background investigation. All users are given information system security awareness training, including the procedures for handling Sensitive But Unclassified (SBU) and personally identifiable information, before being allowed to access the Department of State SBU network. Annual refresher training is mandatory. Before being granted access to the system of records, a user must first be granted access to SBU network. Access is only granted to users with Diplomatic Security-approved clearances. Users must sign a Password Receipt Controls Form.

Access to the Department of State and its annexes is controlled by security guards, and admission is limited to those individuals possessing a valid identification card and individuals under proper escort. All records containing personal information are maintained in secured filing cabinets or in restricted areas, access to which is limited to authorized personnel. Access to electronic files is password-protected and under the direct supervision of the system manager. The system of records structures access privileges to reflect the separation of key duties that end-users perform within the functions the application supports. Access privileges are consistent with the need-to-know, separation of duties, and supervisory requirements established for manual processes. The system manager has the capability of printing audit trails of access from the computer media, thereby permitting regular ad hoc monitoring of computer usage.

When it is determined that a user no longer needs access, the user account will be disabled.

Retention and disposal:

These records will be maintained until they become inactive, at which time they will be retired or destroyed according to published record schedules of the Department of State and as approved by the National Archives and Records Administration. More specified information may be obtained by writing to the Director, Office of Information Programs and Services, A/ISS/IPS, SA-2, Department of State, Washington, DC 20522-8001.

System manager(s) and address:

Assistant Legal Adviser for International Claims and Investment Disputes, Office of the Legal Adviser, 2430 E Street, NW., South Building, Room 203, Washington, DC 20037.

Notification procedure:

Individuals who have reason to believe the Office of the Assistant Legal Adviser for International Claims and Investment Disputes might have records pertaining to them should write to the Director, Office of Information Programs and Services, A/ISS/IPS, SA-2, Department of State, Washington, DC 20522-8001. The individual must specify that he/she wishes the Records of the Office of the Assistant Legal Adviser for International Claims and Investment Disputes to be checked. At a minimum, the individual must include: Name, date and place of birth; current mailing address and zip code; and signature.

Record access procedures:

Individuals who wish to gain access to or amend records pertaining to themselves should write to the Director, Office of Information Programs and Services, A/ISS/IPS, SA-2, Department of State, Washington, DC 20522-8001.

Record source categories:

These records contain information obtained directly from the individual who is the subject of these records or his/her legal representative, the parties to the claim at issue, other witnesses, other departments of the executive branch, the U.S.-Iran Claims Tribunal, the United Nations Compensation Commission, other international tribunals, and the Office of the Legal Adviser.

Systems exempted from certain provisions of the act:

Portions of certain documents contained within this system of records are exempted from 5 U.S.C. 552a(c)(3), (d), (e)(1), (e)(4)(G), (H) and (I) and (f). See 22 CFR 171.32.

[FR Doc. E8-14022 Filed 6-19-08; 8:45 am]

BILLING CODE 4710-24-P